DEPARTMENT OF THE INTERIOR

Bureau of Land Management

[NV-930-1430-EU; N-58575]

Esmeralda County, Nevada; Notice of Realty Action: Direct Sale of Public Lands, Esmeralda County, NV

AGENCY: Bureau of Land Management, Interior.

ACTION: Notice of Realty Action.

SUMMARY: The following described lands near Dyer, Esmeralda County, Nevada, have been examined and found suitable for sale utilizing direct sale procedures.

DATES: Comments must be submitted by June 17, 2004.

ADDRESSES: Bureau of Land Management, Tonopah Field Station, 1553 South Main Street, Post Office Box 911, Tonopah, Nevada 89049.

FOR FURTHER INFORMATION CONTACT: Wendy Seley, Realty Specialist, at the above address or at (775) 482-7800.

SUPPLEMENTARY INFORMATION: The following described lands have been appraised at a fair market value (FMV) of $5,500.00.

Mount Diablo Meridian, Nevada

T. 1 S., R. 35 E., Sec. 16, lot 13;

Totaling 1.35 acres, more or less.

These lands are being offered for direct sale, pursuant to 43 CFR 2711.3-3 (a)(5), to The Botner 1992 Family Trust of Dyer, Nevada to resolve inadvertent unauthorized use and development. Authority for the sale is Section 203 and Section 209 of the Federal Land Policy and Management Act of October 21,1976 (43 U.S.C. 1701,1713, 1719). The patent, when issued, will contain the following reservations to the United States:

1. A right-of-way thereon for ditches and canals constructed by authority of the United States, Act of August 30, 1890 (43 U.S.C. 945).

2. Oil, gas, sodium and potassium, and geothermal resources are reserved on the land sold; permittees, licensees, and lessees retain the right to prospect for, mine, and remove the minerals owned by the United States under applicable law and any regulations that the Secretary of the Interior may prescribe, including all necessary access and exit rights.

And will be subject to the following:

1. A right-of-way authorized under the Act of March 4, 1911 (36 Stat. 1253; 43 U.S.C. 961) for powerline purposes granted to Valley Electric Association, its successor or assignees, by right-of-way No. NEV-051579.

2. All existing and valid land uses, including livestock grazing leases, unless waived.

3. Valid existing rights.

The purchaser/patentee, by accepting patent, agrees to indemnify, defend, and hold the United States harmless from any costs, damages, claims, causes of action, penalties, fines, liabilities, and judgments of any kind arising from the past, present or future acts or omissions of the patentee, its employees, agents, contractors, or lessees, or any third-party arising out of or in connection with the patentee's use and/or occupancy of the patented real property resulting in: (1) Violations of Federal, State, and local laws and regulations that are now or in the future become, applicable to the real property; (2) Judgments, claims or demands of any kind assessed against the United States; (3) Costs, expenses, or damages of any kind incurred by the United States; (4) Releases or threatened releases of solid or hazardous waste(s) and/or hazardous substances(s), as defined by Federal or State environmental laws, off, on, into or under land, property, and other interests of the United States; (5) Other activities by which solids or hazardous substances or wastes, as defined by Federal and State environmental laws are generated, released, stored, used, or otherwise disposed of on the patented real property, and any cleanup response, remedial action or other actions related in any manner to said solid or hazardous substances or wastes; or (6) Natural resource damages as defined by Federal and State law. This covenant shall be construed as running with the patented real property and may be enforced by the United States in a court of competent jurisdiction.

No warranty of any kind shall be given or implied as to the potential use of the land offered for sale. It is the buyer's responsibility to be aware of all applicable local government policies and regulations that would affect the subject lands. It is also the buyer's responsibility to be aware of existing or prospective uses of nearby properties. In the event of a sale, the unreserved mineral interests will be conveyed simultaneously with the sale of the land. The remaining unreserved mineral interests have been determined to have no known mineral value pursuant to 43 CFR 2720.2(a). Acceptance of the sale offer will constitute an application for conveyance of those unreserved mineral interests. The purchaser will be required to pay a $50.00 non-refundable filing fee for conveyance of the available mineral interests. The purchaser will have 30 days from the date of receiving the sale offer to accept the offer and to submit a deposit of 30 percent of the purchase price, the $50.00 filing fee for conveyance of mineral interests, and for payment of publication costs. The purchaser must remit the remainder of the purchase price within 180 days from the date the sale offer is received. Payments must be by certified check, postal money order, bank draft or cashiers check, payable to the U.S. Department of the Interior—BLM. Failure to meet conditions established for this sale will void the sale and any monies received will be forfeited. This parcel of land located near Dyer, Nevada, is being offered for sale through direct sale procedures. The land is not required for Federal purposes. The disposal (sale) of the parcel would serve an important public objective by resolving the management costs of an inadvertent unauthorized use of the public lands. As such, these lands meet the criteria found under 43 CFR 2710.0-3(a)(2). The proposed action is consistent with the objectives, goals, and decisions of the Tonopah Resource Management Plan. An appraisal report has been prepared by a state certified appraiser for the purposes of establishing fair market value (FMV). The appraisal report is available for review at the address shown above.

Publication of this Notice in the Federal Register segregates the subject lands from all appropriations under the public land laws, including the general mining laws, except sale under the Federal Land Policy and Management Act of 1976. The segregation will terminate upon issuance of the patent or January 28, 2005, whichever occurs first.

For a period until June 17, 2004, interested parties may submit comments to the Tonopah Field Station Manager at the above address. Any adverse comments will be reviewed by the State Director, who may sustain, vacate, or modify this realty action and issue a final determination. In the absence of timely filed objections this realty action will become the final determination of the Department of the Interior. The land will not be offered for sale until July 2, 2004.

Dated: March 16, 2004.
Raymond C. Lee,
Acting Assistant Field Manager, Tonopah.

[FR Doc. 04-9891 Filed 4-30-04; 8:45 am]

BILLING CODE 4310-HC-P